DEPARTMENT OF AGRICULTURE

Forest Service

Yavapai County Resource Advisory Committee

AGENCY: Forest Service, USDA.

ACTION: Notice of meeting.

SUMMARY: The Yavapai County Resource Advisory Committee (RAC) will meet in Prescott, Arizona. The committee is meeting as authorized under the Secure Rural Schools and Community Self-Determination Act (Pub. L 110-343) and in compliance with the Federal Advisory Committee Act. The purpose of the meeting is to discuss the 1-year extension and select projects for the Yavapai County RAC.

DATES: The meeting will be held September 13, 2012; 9 a.m. to 1 p.m.

ADDRESSES: The meeting will be held at the Prescott Fire Center, 2400 Melville Dr, Prescott, AZ 86301.

FOR FURTHER INFORMATION CONTACT: Debbie Maneely, RAC Coordinator, Prescott National Forest, 344 S. Cortez, Prescott, AZ 86301; (928) 443-8130 or dmaneely@fs.fed.us.

SUPPLEMENTARY INFORMATION: The meeting is open to the public. The following business will be conducted: (1) Review Agenda; (2) update on SRS/Funding; (3) Project Review; (4) Project Ranking; (5) Project Selection.

Dated: July 23, 2012.
Betty A. Mathews,
Forest Supervisor.

[FR Doc. 2012-19387 Filed 8-7-12; 8:45 am]

BILLING CODE 3410-11-P